DEPARTMENT OF THE INTERIOR

Bureau of Land Management

[MT-922-06-1310-FI-P; MTM 93186, MTM 93187]

Notice of Proposed Reinstatement of Terminated Oil and Gas Leases MTM 93186 and MTM 93187

AGENCY: Bureau of Land Management, Interior.

ACTION: Notice.

SUMMARY: Per 30 U.S.C. 188(d), Coastal Petroleum Company timely filed petitions for reinstatement of oil and gas leases MTM 93186 and MTM 93187, Valley County, Montana. The lessee paid the required rentals accruing from the date of termination.

No leases were issued that affect these lands. The lessee agrees to new lease terms for rentals and royalties of $5 per acre and 16⅔ percent or 4 percentages above the existing competitive royalty rate. The lessee paid the $500 administration fee for the reinstatement of each lease and $163 cost for publishing this Notice.

The lessee met the requirements for reinstatement of the leases per Sec. 31 (d) and (e) of the Mineral Leasing Act of 1920 (30 U.S.C. 188). We are proposing to reinstate the leases, effective the date of termination subject to:

• The original terms and conditions of the leases;

• The increased rental of $5 per acre for each lease;

• The increased royalty of 16 ⅔ percent or 4 percentages above the existing competitive royalty rate for each lease; and

• The $163 cost of publishing this Notice.

FOR FURTHER INFORMATION CONTACT: Karen L. Johnson, Chief, Fluids Adjudication Section, BLM Montana State Office, 5001 Southgate Drive, Billings, Montana 59101-4669, 406-896-5098.

Dated: July 27, 2006.
Karen L. Johnson,
Chief, Fluids Adjudication Section.

[FR Doc. E6-12557 Filed 8-2-06; 8:45 am]

BILLING CODE 4310-$$-P